SECURITIES AND EXCHANGE COMMISSION

Proposed Collections; Comment Request

Upon Written Request; Copies Available From: Securities and Exchange Commission, Office of Filings and Information Services, Washington, DC 20549.

Extensions:

Rule 14f-1, OMB Control No. 3235-0108, SEC File No. 270-127.

Rule 12g3-2, OMB Control No. 3235-0119, SEC File No. 270-104.

Rule 13e-1, OMB Control No. 3235-0305, SEC File No. 270-255.

Notice is hereby given that pursuant to the Paperwork Reduction Act of 1995 (44 U.S.C. 3501 et seq.) the Securities and Exchange Commission (“Commission”) is soliciting comments on the collections of information summarized below. The Commission plans to submit these existing collections of information to the Office of Management and Budget for approval.

Rule 14f-1 (17 CFR 240.14f-1) requires issuers to disclose a change in a majority of the directors of the issuer. The information filed under Rule 14f-1 must be filed with the Commission and is publicly available. We estimate that it takes approximately 18 burden hours to provide the information required under Rule 14f-1 and that the information is filed by 44 respondents for a total annual reporting burden of 792 hours.

Rule 12g3-2 (17 CFR 240.12g3-2) provides an exemption from Section 12(g) of the Act (15 U.S.C. 781(g)) for foreign private issuers. Rule 12g3-2 is designed to provide investors in foreign securities with information about such securities and the foreign issuer. The information filed under Rule 12g3-2 must be filed with the Commission and is publicly available. We estimate that it takes approximately one hour to provide the information required under Rule 12g3-2 and that the information is filed by 1,800 foreign issuers for a total annual reporting burden of 1,800 hours.

Rule 13e-1 (17 CFR 240.13e-1) makes it unlawful for an issuer who has received notice that it is the subject of a tender offer made under Section 14(d)(1) of the Act (15 U.S.C. 78n(d)(1)) and which has commenced under Rule 14d-2 (17 CFR 240.14d-2) to purchase any of its equity securities during the tender offer unless it first files a statement with the Commission containing information required by the Rule. This rule is in keeping with the Commission's statutory responsibility to prescribe rules and regulations that are necessary for the protection of investors. The information filed under Rule 13e-1 must be filed with the Commission and is publicly available. We estimate that it takes approximately 10 burden hours per response to provide the information required under Rule 13e-1 and that the information is filed by 20 respondents. We estimate that 25% of the 10 hours per response (2.5 hours) is prepared by the company for a total annual reporting burden of 50 hours (2.5 hours per response × 20 responses).

Written comments are invited on: (a) Whether these proposed collections of information are necessary for the performance of the functions of the agency, including whether the information will have practical utility; (b) the accuracy of the agency's estimate of the burden imposed by the collections of information; (c) ways to enhance the quality, utility, and clarity of the information collected; and (d) ways to minimize the burden of the collection of information on respondents, including through the use of automated collection techniques or other forms of information technology. Consideration will be given to comments and suggestions submitted in writing within 60 days of this publication.

Please direct your written comment to R. Corey Booth, Director/Chief Information Officer, Securities and Exchange Commission, C/O Shirley Martinson 6432 General Green Way, Alexandria, Virginia 22312; or send an e-mail to: PRA_Mailbox@sec.gov.

Dated: October 30, 2006.
Jill M. Peterson,
Assistant Secretary.

[FR Doc. E6-18695 Filed 11-6-06; 8:45 am]

BILLING CODE 8011-01-P